DEPARTMENT OF THE INTERIOR

Fish and Wildlife Service

Interagency Florida Panther Response Plan

AGENCY: Fish and Wildlife Service, Interior.

ACTION: Notice of availability: plan and environmental assessment (EA); request for public comment.

SUMMARY: We, the Fish and Wildlife Service (Service), announce an EA for our Interagency Florida Panther Response Plan. Our EA considers alternatives for managing conflicts between humans and the endangered Florida panther (Puma concolor coryi).

DATES: We must receive any written comments on the EA at the Service's Field or Regional Office (see ADDRESSES) on or before December 3, 2007.

ADDRESSES: Layne Hamilton, Refuge Manager, Florida Panther and Ten Thousand Islands National Wildlife Refuges, 3860 Tollgate Blvd., Suite 300, Naples, FL 34114, or Southeast Regional Office, Fish and Wildlife Service, 1875 Century Boulevard, Suite 420, Atlanta, GA 30345 (Attn: Elizabeth Souheaver).

FOR FURTHER INFORMATION CONTACT: Ms. Layne Hamilton, Refuge Manager, Florida Panther and Ten Thousand Islands National Wildlife Refuges (see ADDRESSES), at 239/353-8442, extension 227 (telephone), or Ms. Elizabeth Souheaver, Area IV Supervisor (see ADDRESSES), at 404/679-7163 (telephone) or 404/679-4082 (facsimile). For information on how to request documents for review or to submit your comments, see “Public Document Review and Comment.”

SUPPLEMENTARY INFORMATION: We announce an EA for our Interagency Florida Panther Response Plan. Our EA considers alternatives for managing conflicts between humans and the endangered Florida panther (Puma concolor coryi). One of the rarest large mammals in the United States, this species is protected as endangered under the Endangered Species Act, as amended (16 U.S.C. 1531 et seq.; Act), and Florida statutes. Because of the panther's potential for extinction, conflicts with humans raise issues that require careful consideration and action to conserve the species and protect the public.

Florida panthers occur primarily in southern Florida, with most individuals residing south of Lake Okeechobee. Recovery actions over the past 25 years, particularly genetic augmentation initiated in 1995, enabled the population to grow from 30-50 animals in 1995 to 80-100 animals in 2005. At the same time, the human population of Collier County, where most panthers reside, more than doubled in 14 years (1990-2004), from 152,000 to 306,000. Because of increases in numbers of both people and panthers, urban-suburban areas now interface with panther habitat, increasing the possibility of human-panther interactions. Management guidelines are needed to provide more definitive guidance to respond and manage panther and human interactions and to educate the public about appropriate behavior when living and recreating in panther habitat.

In accordance with mandates established under the National Environmental Policy Act (NEPA), we are required to consider a full range of reasonable alternatives for addressing and responding to major public issues, management concerns, and resource conservation opportunities associated with issues arising from human-panther interactions.

We analyzed three alternatives. Alternative A (Preferred Action) proposes managing human-panther interactions with an interagency response team and an established plan that prioritizes public safety and evaluates each situation by analyzing panther behavior and human activity. Alternative B (No Action) does not utilize an interagency team or a response plan, but responds to human-panther interactions on a case-by-case basis without established protocols or guidelines. Alternative C includes a response team and plan that differs from Alternative A by providing rigid protocols based on frequency of panther sightings and proximity to human-occupied structures, without considering panther behavior or influences of human activity on panther behavior.

We have coordinated this proposal with the National Park Service, Florida Fish and Wildlife Conservation Commission, and local Indian tribes. We announced the availability of our draft EA in the May 25, 2006, Federal Register (71 FR 30156). We invited the public to submit written comments on the draft guidelines and response plan by July 24, 2006. Additionally, to improve the quality and credibility of the scientific information, we conducted a formal peer review process for the draft plan. The Florida Fish and Wildlife Conservation Commission, NPS, Miccosukee Tribe of Indians of Florida, Seminole Indian Tribe, and the Service provided lists of possible peer reviewers, from which we selected six peer reviewers. All but one peer reviewer provided comments. We received five letters from the public and/or environmental community and one letter from a tribe. We have included responses to specific comments in the EA appendices.

Tribal and public comments; peer reviews; and discussions between us, the Florida Fish and Wildlife Commission, and NPS helped us identify several issues and concerns. Our revisions to the EA and plan include the following: (1) Discussion of cultural resource impacts to the local tribes; (2) elimination of the first two chapters of the Response Plan (Chapter 1: Florida Panther—Status, Biology and Recovery; Chapter 2: Living with Florida Panthers); (3) reorganization of the plan to reduce redundancy and clarify management actions; (4) separation of the section on depredation from the other human-panther interaction classifications (sighting(s), encounter(s), incidents, threat, attack), because depredations are distinctly different from direct human-panther interactions; and (5) inclusion of risk factor with each classification.

Public Document Review and Comment

If you wish to review the EA, you may obtain a copy on the Internet at http://www.fws.gov/verobeach. You may also obtain a copy by writing the Service's Southeast Regional Office in Atlanta (see ADDRESSES.) Please reference the EA associated with the Interagency Florida Panther Response Plan in such requests. Documents will also be available for public inspection by appointment during normal business hours at the Regional Office in Atlanta (see ADDRESSES.)

If you wish to comment, you may submit comments by any one of several methods. Please reference the EA associated with the Interagency Florida Panther Response Plan in such comments. You may mail comments to the Service's Regional Office in Atlanta (see ADDRESSES), or you may comment via electronic mail (e-mail) to pantherresponseplan@fws.gov. Please also include your name and return address in your e-mail message. If you do not receive a confirmation from us that we have received your e-mail message, contact us directly at either telephone number listed under FOR FURTHER INFORMATION CONTACT. Finally, you may hand deliver comments to either Service office listed under ADDRESSES.

Before including your address, phone number, e-mail address, or other personal identifying information in your comment, you should be aware that your entire comment—including your personal identifying information—may be made publicly available at any time. While you can ask us in your comment to withhold your personal identifying information from public review, we cannot guarantee that we will be able to do so.

Authority: We provide this notice under NEPA regulations at 40 CFR 1506.6.

Dated: September 7, 2007.
Cynthia Dohner,
Deputy Regional Director, Southeast Region.

[FR Doc. E7-21579 Filed 11-1-07; 8:45 am]

BILLING CODE 4310-55-P